DEPARTMENT OF DEFENSE

Meeting of the Department of Defense Military Family Readiness Council (MFRC); Cancellation

AGENCY: Office of the Secretary, Department of Defense.

ACTION: Notice; cancellation.

SUMMARY: On Friday, January 31, 2014 (79 FR 5385), the Department of Defense published a notice announcing a meeting of the Military Family Readiness Council (MFRC) that was to take place on Friday, February 28, 2014. The meeting of Friday, February 28, 2014 was cancelled.

Due to schedules conflicts the MFRC is unable to assemble a quorum of members for the previously scheduled meeting on February 28, 2014. Therefore, the Department of Defense is cancelling the previously scheduled meeting.

FOR FURTHER INFORMATION CONTACT: Ms. Melody McDonald or Ms. Betsy Graham, Office of the Deputy Assistant Secretary of Defense (Military Community & Family Policy), 4800 Mark Center Drive, Alexandria, VA 22350-2300, Room 3G15. Telephones (571) 372-0880; (571) 372-0881 and/or email: OSD Pentagon OUSD P-R Mailbox Family Readiness Council, osd.pentagon.ousd-p-r.mbx.family-readiness-council@mail.mil.

SUPPLEMENTARY INFORMATION: Due to the circumstances beyond the control of the Designated Federal Officer, the Department of Defense must cancel the previously scheduled meeting of the Department of Defense Military Family Readiness Council on February 28, 2014. As a result, the Department of Defense is unable to provide appropriate notification as required by 41 CFR 102-3.150(a). Therefore, the Advisory Committee Management Officer for the Department of Defense, pursuant to 41 CFR 102-3.150(b), waives the 15-calendar day notification requirement.

Dated: February 21, 2014.
Aaron Siegel,
Alternate OSD Federal Register Liaison Officer, Department of Defense.

[FR Doc. 2014-04170 Filed 2-25-14; 8:45 am]

BILLING CODE 5001-06-P